NATIONAL COUNCIL ON DISABILITY

Sunshine Act Meetings

Time and Dates: The Members of the National Council on Disability (NCD) will meet by phone on Thursday, March 29, 2018, 11:00 a.m.-12:30 p.m., ET.

Place: The meeting will occur by phone. NCD staff will participate in the call from the NCD conference room, 1331 F Street NW, Suite 850, Washington, DC. Interested parties may join the meeting in person at the NCD conference room or may join the phone line in a listening-only capacity using the following call-in information: Call-in number: 1-888-855-5838; Passcode: 5101128; Host Name: Neil Romano.

Matters To Be Considered: The Council will discuss and vote on the slate of projects it will move forward for external funding opportunities and internal work of staff.

Agenda: The times provided below are approximations for when each agenda item is anticipated to be discussed (all times Eastern):

Thursday, March 29

11:00 a.m.-11:10 a.m.—Opening comments by the Chairman

11:10 a.m.-12:30 p.m.—Discussion of policy project proposals, to conclude with a vote of the board regarding funding allocations and priorities

12:30 p.m.—Adjourn

Contact Person: Anne Sommers, NCD, 1331 F Street NW, Suite 850, Washington, DC 20004; 202-272-2004 (V).

Accommodations: A CART streamtext link has been arranged for this meeting. The web link to access CART on Thursday, March 29, 2018 is: https://www.streamtext.net/player?event=NCD-MEETING.

Those who plan to attend the meeting in-person and require accommodations should notify NCD as soon as possible to allow time to make arrangements. To help reduce exposure to fragrances for those with multiple chemical sensitivities, NCD requests that all those attending the meeting in person refrain from wearing scented personal care products such as perfumes, hairsprays, and deodorants.

Dated: March 14, 2018.
Sharon M. Lisa Grubb,
Executive Director (Interim).

[FR Doc. 2018-05547 Filed 3-14-18; 4:15 pm]

BILLING CODE 8421-03-P